FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 6, 2008.

A. Federal Reserve Bank of Minneapolis (Jacqueline G. King, Community Affairs Officer) 90 Hennepin Avenue, Minneapolis, Minnesota 55480-0291:

1. John Richard Doherty, Oswego, Illinois, to retain voting shares of West End Financial Corporation, and thereby indirectly retain control of Gogebic Range Bank, both of Bessemer, Michigan.

B. Federal Reserve Bank of Dallas (W. Arthur Tribble, Vice President) 2200 North Pearl Street, Dallas, Texas 75201-2272:

1. The Gayle Gourley Trust, The W.J, Gourley, 111, Trust, and The Mary Theresa Lott Trust, Richard A, Griffin, Charles Lasater, Henry W, Simon, Jr., John W, Windle, and B. Ted Woodle, all of Fort Worth, Texas, and Jack S. Lewis, Arlington, Texas, all as trustees, to acquire an interest in Texas American Acquisition Group, Inc. Fort Worth, Texas, and thereby indirectly acquire an interest in Liberty Bank, North Richland Hills, Texas.

Board of Governors of the Federal Reserve System, July 17, 2008.
Robert deV. Frierson,
Deputy Secretary of the Board.

[FR Doc. E8-16719 Filed 7-21-08; 8:45 am]

BILLING CODE 6210-01-S